DEPARTMENT OF TRANSPORTATION

Federal Aviation Administration

Notice of Intent To Rule on Request To Dispose 5.3 and .8 Acres of Land at Sanford Seacoast Regional Airport, Sanford, ME

AGENCY: Federal Aviation Administration (FAA), DOT.

ACTION: Request for public comments.

SUMMARY: Notice is being given that the FAA is considering a request from the Town of Sanford ME, to dispose of 5.3 and .8 acres of land at Sanford Seacoast Regional Airport, Sanford, ME. The land is no longer needed for aviation purposes and may be disposed of by the airport. These parcels are located in non-aeronautical use area and will have no effect on any existing or future aviation development needs. The proceeds from the sale of the two properties will be placed in the airports operating and maintenance account.

DATES: Comments must be received on or before June 16, 2021.

ADDRESSES: You may send comments using any of the following methods:

• Federal eRulemaking Portal: Go to http://www.regulations.gov, and follow the instructions on providing comments.

• Fax: 202-493-2251.

• Mail: U.S. Department of Transportation, Docket Operations, M-30, West Building Ground Floor, Room W 12-140, 1200 New Jersey Avenue SE, Washington, DC 20590.

• Hand Delivery: Deliver to mail address above between 9 a.m. and 5 p.m., Monday through Friday, except Federal holidays.

Interested persons may inspect the request and supporting documents by contacting the FAA at the address listed under FOR FURTHER INFORMATION CONTACT.

FOR FURTHER INFORMATION CONTACT: Mr. Jorge E. Panteli, Compliance and Land Use Specialist, Federal Aviation Administration New England Region Airports Division, 1200 District Avenue, Burlington, Massachusetts 01803. Telephone: 781-238-7618.

SUPPLEMENTARY INFORMATION: The FAA issues this notice under the provisions of 49 U.S.C. 47107(h)(2).

Issued in Burlington, Massachusetts, on May 12, 2021.
Julie Seltsam-Wilps,
Deputy Director, Airports Division.

[FR Doc. 2021-10322 Filed 5-14-21; 8:45 am]

BILLING CODE P